DEPARTMENT OF HEALTH AND HUMAN SERVICES

Administration for Children and Families

Proposed Information Collection Activity; Comment Request

Title: Assets for Independence (AFI) Program Evaluation.

OMB No.: New Collection.

Description: The U.S. Department of Health and Human Services, Administration for Children and Families (ACF) is proposing a data collection activity as part of an experimental evaluation of the Assets for Independence (AFI) Program. The purpose of this study is to assess the impact of participation in AFI-funded individual development account (IDA) projects on the savings, asset purchases, and economic well-being of low-income individuals and families. The two primary research questions are:

• What is the impact of AFI project participation on short-term outcomes such as savings, asset purchases, and material hardship?

• How do specific API project design features affect short-term participant outcomes?

While some evaluations suggest that IDAs help low-income families save, rigorous experimental research is limited. Few studies have focused on API-funded IDAs, and few have tested alternative design features.

This evaluation—the first experimental evaluation of IDA projects operating under the Assets for Independence Act—will contribute importantly to understanding the effects of IDA project participation on project participants, particularly effects that occur within the first 12 months of participation, and how these short-term effects differ under alternative project designs. The evaluation will be conducted in two sites, with the random assignment of API-eligible cases to program and control groups. The evaluation consists of both an impact study and an implementation study. Data collection activities will span a three-year period.

Respondents: Respondent groups will include: (1) API-eligible participants and (2) API project administrators and staff members of the participating API grantees and their partnering organizations.

Annual Response Burden Estimates
Instrument | Number of respondents | Number of responses per respondent | Average burden hours per response | Estimated burden hours
Baseline survey: AFI-eligible participants | 567 | 1 | .50 | 284
Follow-up survey: AFI-eligible participants | 482 | 1 | .50 | 241
Implementation interview: Administrators and staff | 10 | 1 | 1.00 | 10

Estimated Annual Response Burden Hours: 535.

In compliance with the requirement of section 3506(c)(2)(A) of the Paperwork Reduction Act of 1995, the Administration for Children and Families (ACF), Department of Health and Human Services, is soliciting public comment on the specific aspects of the information collection described above. Copies of the proposed collection of information can be obtained and comments may be forwarded in writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 14, 2012.
Steven M. Hanmer,
Office of Planning Research and Evaluation; ACF, Reports Clearance Officer.

[FR Doc. 2012-3946 Filed 2-22-12; 8:45 am]

BILLING CODE 4184-24-M